GENERAL SERVICES ADMINISTRATION

Maximum Per Diem Rates for the Continental United States (CONUS)

AGENCY: Office of Governmentwide Policy, General Services Administration (GSA).

ACTION: Notice of Per Diem Bulletin 07-1, Fiscal Year (FY) 2007 continental United States (CONUS) per diem rates.

SUMMARY: The General Services Administration’s (GSA’s) annual per diem review has resulted in lodging and meal allowance changes for locations within the continental United States (CONUS) to provide for the reimbursement of Federal employees’ expenses covered by per diem. Per Diem Bulletin 07-1 updates the maximum per diem amounts in existing per diem localities. The standard CONUS lodging rate of $60 is unchanged. The CONUS per diem rates prescribed in Bulletin 07-1 may be found at http://www.gsa.gov/perdiem. GSA based the lodging per diem rates on the average daily rate that the lodging industry reports. The use of such data in the per diem rate setting process enhances the Government’s ability to obtain policy compliant lodging where it is needed. In addition to the annual lodging study, GSA identified 26 new or redefined non-standard areas (NSA’s). In order to base its per diem recommendations for those areas on accurate meal cost data, GSA commissioned an out of cycle meal survey in each of the 26 areas. For a complete listing of pertinent information that must be submitted through a Federal executive agency for GSA to restudy a location if a CONUS or standard CONUS per diem rate is insufficient to meet necessary expenses, please review numbers 4 and 5 of our per diem Frequently Asked Questions at (www.gsa.gov/perdiemfaqs).

DATES: This notice is effective October 1, 2006, and applies for travel performed on or after October 1, 2006 through September 30, 2007.

FOR FURTHER INFORMATION CONTACT: For clarification of content, contact Lois Mandell, Office of Governmentwide Policy, Office of Travel, Transportation, and Asset Management, at (202) 501-2824, or by email at www.gsa.gov/perdiemquestions. Please cite Notice of Per Diem Bulletin 07-1.

SUPPLEMENTARY INFORMATION:

A. Background

After an analysis of current data, GSA has determined that current lodging rates for certain localities do not adequately reflect the lodging economics in those areas. Except for two minor changes, GSA generally applied the FY 2006 methodology in developing the FY 2007 rates. The two changes were:

• Excluded properties identified as below industry standard.

• Redefined property selections within NSA’s based on updated charge card data, in addition to Federal Executive Board/Federal Executive Agency input, to indicate actual Federal traveler destinations.

A meals study was also conducted for 26 new or redefined NSA’s.

B. Change in standard procedure

GSA issues/publishes the CONUS per diem rates, formerly published in Appendix A to 41 CFR Chapter 301, solely on the internet at http://www.gsa.gov/perdiem. This process, implemented in 2003, ensures more timely changes in per diem rates established by GSA for Federal employees on official travel within CONUS. Notices published periodically in the Federal Register, such as this one, now constitute the only notification of revisions in CONUS per diem rates to agencies.

Dated: July 19, 2006.
Becky Rhodes,
Deputy Associate Administrator.

[FR Doc. E6-12467 Filed 8-1-06; 8:45 am]

BILLING CODE 6820-14-S